DEPARTMENT OF TRANSPORTATION

Federal Aviation Administration

14 CFR Part 39

[Docket No. FAA-2019-0738; Product Identifier 2019-SW-017-AD; Amendment 39-19749; AD 2019-19-13]

RIN 2120-AA64

Airworthiness Directives; Airbus Helicopters

AGENCY: Federal Aviation Administration (FAA), Department of Transportation (DOT).

ACTION: Final rule; request for comments.

SUMMARY: The FAA is adopting a new airworthiness directive (AD) for certain Airbus Helicopters Model EC225LP helicopters. This AD requires determining the total hours time-in-service (TIS) of the free wheel shafts of certain main rotor gearboxes (MGBs), replacing the MGB or right-hand side (RH) free wheel shaft, installing placard(s), and revising the Rotorcraft Flight Manual (RFM) for your helicopter. This AD was prompted by a report of wear of the ramps of the RH free wheel shaft. The actions of this AD are intended to address an unsafe condition on these products.

DATES: This AD becomes effective November 5, 2019. The FAA must receive comments on this AD by December 20, 2019.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2019-0738; or in person at Docket Operations between 9 a.m. and 5 p.m., Monday through Friday, except Federal holidays. The AD docket contains this AD, the European Aviation Safety Agency (EASA) AD, the economic evaluation, any comments received, and other information. The street address for Docket Operations is listed above. Comments will be available in the AD docket shortly after receipt.

For service information identified in this final rule, contact Airbus Helicopters, 2701 N Forum Drive, Grand Prairie, TX 75052; telephone (972) 641-0000 or (800) 232-0323; fax (972) 641-3775; or at http:/www.helicopters.airbus.com/website/en/ref/Technical-Support_73.html. You may review the referenced service information at the FAA, Office of the Regional Counsel, Southwest Region, 10101 Hillwood Pkwy., Room 6N-321, Fort Worth, TX 76177.

FOR FURTHER INFORMATION CONTACT: Rao Edupuganti, Aviation Safety Engineer, Regulations and Policy Section, Rotorcraft Standards Branch, FAA, 10101 Hillwood Pkwy., Fort Worth, TX 76177; telephone (817) 222-5110; email rao.edupuganti@faa.gov.

SUPPLEMENTARY INFORMATION:

Comments Invited

This AD is a final rule that involves requirements affecting flight safety, and the FAA did not provide you with notice and an opportunity to provide your comments prior to it becoming effective. However, the FAA invites you to participate in this rulemaking by submitting written comments, data, or views. The FAA also invites comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. The FAA will file in the docket all comments received, as well as a report summarizing each substantive public contact with FAA personnel concerning this rulemaking during the comment period. The FAA will consider all the comments received and may conduct additional rulemaking based on those comments.

Discussion

EASA, which is the Technical Agent for the Member States of the European Union, has issued EASA AD No. 2019-0152-E, dated June 28, 2019, to correct an unsafe condition for Airbus Helicopters (AH), formerly Eurocopter, Eurocopter France, Model EC 225 LP helicopters with MGB part number (P/N) 332A325001.XX, P/N 332A325002.XX, or P/N 332A325003.XX equipped with main reduction gear module P/N 332A325011.XX, P/N 332A325012.XX, or P/N 332A325013.XX in post-mod 07-53016 configuration installed, where XX represents any dash number, and with RH free wheel shaft P/N 332A322191.20 (16-roller free wheel) installed. EASA advises of a report of wear of the ramps and a broken roller cage of the RH free wheel shaft that were discovered during overhaul of an MGB. EASA states an investigation to determine the root cause of the occurrence is ongoing. EASA advises that this condition, if not corrected, could lead to reduced capacity to transfer one engine inoperative (OEI) power delivered by the right side engine following an event of in-flight shut down of the left side engine, resulting in reduced control of the helicopter.

Accordingly, the EASA AD requires repetitive replacement of the affected MGBs, installing placards that specify an operational limitation for OEI training flights, and introduces conditions for installing a replacement MGB. EASA states its AD is considered an interim action and further AD action may follow.

FAA's Determination

These helicopters have been approved by EASA and are approved for operation in the United States. Pursuant to the FAA's bilateral agreement with the European Union, EASA has notified the FAA of the unsafe condition described in the EASA AD. The FAA is issuing this AD after evaluating all information provided by EASA and determining the unsafe condition exists and is likely to exist or develop on other helicopters of the same type design.

Related Service Information

Airbus Helicopters has issued Emergency Alert Service Bulletin No. 04A016, Revision 1, dated June 28, 2019, which specifies procedures to determine the total hours TIS of the free wheel shafts, a life limit schedule and instructions to replace the MGB or RH free wheel shaft, and instructions to install one or two labels (placards) in view of both pilots about OEI training procedures.

AD Requirements

This AD requires determining the total hours TIS of each free wheel shaft. For the purpose of this AD, if the total hours TIS of the RH and LH free wheel shafts are different, the greater number of total hours TIS will be considered as the RH free wheel shaft total hours TIS. If the RH free wheel shaft has accumulated 1,000 or more total hours TIS, or before the RH free wheel shaft exceeds 1,000 total hours TIS, this AD requires replacing the MGB with an airworthy MGB or replacing the RH free wheel shaft. This AD also requires installing placard(s) in full view of both pilots and revising the RFM for your helicopter with OEI training procedures pertaining to the “TRAINING IDLE” switches. As an option, this AD specifies installing alternate MGB configurations that would constitute terminating action for the requirements of this AD.

Differences Between This AD and the EASA AD

The EASA AD requires repetitive replacement of the MGB, whereas this AD requires an initial replacement of the MGB instead. The FAA plans to publish a notice of proposed rulemaking to give the public an opportunity to comment on this longer-term requirement. This AD requires revising the RFM for your helicopter, whereas the EASA AD does not.

Interim Action

The FAA considers this AD to be an interim action. Repetitively replacing the MGB at a longer interval is also necessary. However, the planned compliance time for the repetitive replacement would allow enough time to provide notice and opportunity for prior public comment on the merits of the replacement.

Costs of Compliance

The FAA estimates that this AD affects 23 helicopters of U.S. Registry. The FAA estimates that operators may incur the following costs in order to comply with this AD. Labor costs are estimated at $85 per work-hour.

Determining the hours TIS of each free wheel shaft takes about 0.25 work-hour, for an estimated cost of $21 per helicopter and $483 for the U.S. fleet. Installing placard(s) and revising the RFM for your helicopter takes about 0.5 work-hour for an estimated cost of $43 per helicopter and $989 for the U.S. fleet. Replacing an MGB takes about 40 work-hours and parts cost about $850,000 (overhauled), for an estimated cost of $853,400.

Justification for Immediate Adoption and Determination of the Effective Date

Section 553(b)(3)(B) of the Administrative Procedure Act (APA) (5 U.S.C.) authorizes agencies to dispense with notice and comment procedures for rules when the agency, for “good cause” finds that those procedures are “impracticable, unnecessary, or contrary to the public interest.” Under this section, an agency, upon finding good cause, may issue a final rule without seeking comment prior to the rulemaking.

An unsafe condition exists that requires the immediate adoption of this AD without providing an opportunity for public comments prior to adoption. The FAA has found that the risk to the flying public justifies foregoing notice and comment prior to adoption of this rule because the required corrective actions must be completed within 10 hours TIS. Therefore, notice and opportunity for prior public comment are impracticable and contrary to public interest pursuant to 5 U.S.C. 553(b)(3)(B). In addition, for the reason(s) stated above, the FAA finds that good cause exists pursuant to 5 U.S.C. 553(d) for making this amendment effective in less than 30 days.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

The FAA prepared an economic evaluation of the estimated costs to comply with this AD and placed it in the AD docket.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-19-13 Airbus Helicopters: Amendment 39-19749; Docket No. FAA-2019-0738; Product Identifier 2019-SW-017-AD.

(a) Applicability

This AD applies to Airbus Helicopters Model EC225LP helicopters, certificated in any category, with a main rotor gearbox (MGB) part number (P/N) 332A325001.XX, P/N 332A325002.XX, or P/N 332A325003.XX, with a main reduction gear module (main module), with modification (MOD) 07-53016 (16-roller free wheel of free wheel shaft P/N 332A322191.20) installed, P/N 332A325011.XX, P/N 332A325012.XX, or P/N 332A325013.XX, with “XX” denoting any dash number.

(b) Unsafe Condition

This AD defines the unsafe condition as wear of the ramps of the right-hand side (RH) free wheel shaft. During an in-flight shutdown of the left-hand side (LH) engine, this condition could result in reduced ability to transfer one engine inoperative (OEI) power from the RH engine to the main rotor, and subsequent reduced control of the helicopter.

(c) Effective Date

This AD becomes effective November 5, 2019.

(d) Compliance

You are responsible for performing each action required by this AD within the specified compliance time unless it has already been accomplished prior to that time.

(e) Required Actions

(1) Within 10 hours time-in-service (TIS), determine the total hours TIS of the RH and LH free wheel shafts since new or last RH free wheel shaft replacement during overhaul. For the purpose of this AD, if the total hours TIS of the RH and LH free wheel shafts are different, use the greater number of total hours TIS as the RH free wheel shaft total hours TIS.

(i) If the total hours TIS of the RH free wheel shaft is 1,000 or more hours TIS, before further flight, replace the MGB or replace the RH free wheel shaft under the supervision of an Airbus Helicopter Specialist that is qualified for this replacement.

(ii) If the total hours TIS of the RH free wheel shaft is less than 1,000 hours TIS, before exceeding 1,000 hours TIS, replace the MGB or replace the RH free wheel shaft under the supervision of an Airbus Helicopter Specialist that is qualified for this replacement.

(2) Within 10 hours TIS:

(i) Install one or two self-adhesive placards on the instrument panel in full view of the pilot and co-pilot with 6-millimeter red letters on a white background that state the information contained in Figure 1 to paragraph (e)(2)(i) of this AD. Refer to Figure 1 of Airbus Helicopters Emergency Alert Service Bulletin No. 04A016, Revision 1, dated June 28, 2019, for an example of this placard.

(ii) After installing the placard(s) required by paragraph (e)(2)(i) of this AD, before further flight, revise the limitations section of the Rotorcraft Flight Manual (RFM) for your helicopter by adding the information in Figure 2 to paragraph (e)(2)(ii) of this AD, by inserting a copy of this AD, or by making pen-and-ink changes. This action may be done by the owner/operator (pilot) holding at least a private pilot certificate and must be entered into the aircraft records showing compliance with this AD by following 14 CFR 43.9 (a)(1) through (4) and 14 CFR 91.417(a)(2)(v). The record must be maintained as required by 14 CFR 91.417, 121.380, or 135.439

(3) After the effective date of this AD, do not install an MGB P/N 332A325001.XX, P/N 332A325002.XX, or P/N 332A325003.XX, with a main reduction gear module (main module), with modification (MOD) 07-53016 (16-roller free wheel of free wheel shaft P/N 332A322191.20) installed, P/N 332A325011.XX, P/N 332A325012.XX, or P/N 332A325013.XX, with “XX” denoting any dash number unless the requirements of paragraph (e)(2) of this AD have been accomplished.

(4) As an optional terminating action for the requirements of this AD, install MGB P/N 332A325001.XX, P/N 332A325002.XX, or P/N 332A325003.XX, with a main module (12-roller free wheel), without MOD 07-53016 installed, P/N 332A325011.XX, P/N 332A325012.XX, or P/N 332A325013.XX, with “XX” denoting any dash number.

(f) Credit for Previous Actions

Actions accomplished before the effective date of this AD by following the procedures specified in Airbus Helicopters Emergency Alert Service Bulletin No. 04A016, Revision 1, dated June 28, 2019, are considered acceptable for compliance with the corresponding requirements specified in paragraphs (e)(1) through (e)(2)(i) of this AD.

(g) Special Flight Permits

A one-time special flight permit to a maintenance facility may be permitted.

(h) Alternative Methods of Compliance (AMOCs)

(1) The Manager, Safety Management Section, Rotorcraft Standards Branch, FAA, may approve AMOCs for this AD. Send your proposal to Rao Edupuganti, Aviation Safety Engineer, Regulations and Policy Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(i) Additional Information

(1) Airbus Helicopters Emergency Alert Service Bulletin No. 04A016, Revision 1, dated June 28, 2019, which is not incorporated by reference, contains additional information about the subject of this AD. For service information identified in this AD, contact Airbus Helicopters, 2701 N Forum Drive, Grand Prairie, TX 75052; telephone (972) 641-0000 or (800) 232-0323; fax (972) 641-3775; or at http://www.helicopters.airbus.com/website/en/ref/Technical-Support_73.html. You may review a copy of the service information at the FAA, Office of the Regional Counsel, Southwest Region, 10101 Hillwood Pkwy., Room 6N-321, Fort Worth, TX 76177.

(2) The subject of this AD is addressed in European Aviation Safety Agency (EASA) No. 2019-0152-E, dated June 28, 2019. You may view the EASA AD on the internet at http://www.regulations.gov by searching for and locating it in Docket No. FAA-2019-0738.

(j) Subject

Joint Aircraft Service Component (JASC) Code: 6320, Main Rotor Gearbox.

Issued in Fort Worth, Texas, on September 30, 2019.
Lance T. Gant,
Director, Compliance & Airworthiness Division, Aircraft Certification Service.

[FR Doc. 2019-22567 Filed 10-18-19; 8:45 am]

BILLING CODE 4910-13-P